DEPARTMENT OF COMMERCE

National Oceanic and Atmospheric Administration

[I.D. 062102A]

Small Takes of Marine Mammals Incidental to Specified Activities; Taking of Marine Mammals Incidental to Power Plant Operations

AGENCY: National Marine Fisheries Service (NMFS), National Oceanic and Atmospheric Administration (NOAA), Commerce.

ACTION: Notice of issuance of a Letter of Authorization.

SUMMARY: In accordance with the Marine Mammal Protection Act (MMPA), as amended, and implementing regulations, notification is hereby given that a 1-year Letter of Authorization (LOA) to take harbor, gray, harp and hooded seals incidental to intake cooling water operations at Seabrook Station nuclear power plant, Seabrook, NH has been issued to the North Atlantic Energy Service Corporation (North Atlantic).

DATES: Effective from June 26, 2002 through June 25, 2003.

ADDRESSES: A copy of the application is available by writing to Donna Wieting, Chief, Marine Mammal Conservation Division, Office of Protected Resources, NMFS, 1315 East-West Highway, Silver Spring, MD 20910, or by telephoning one of the contact listed here.

FOR FURTHER INFORMATION CONTACT: Kenneth R. Hollingshead, Office of Protected Resources, NMFS, (301) 713-2055, ext 128 or Salvatore Testaverde, Northeast Regional Office, NMFS, (978) 281-9368.

SUPPLEMENTARY INFORMATION:

Background

Section 101(a)(5)(A) of the MMPA (16 U.S.C. 1361 et seq.) directs the Secretary of Commerce to allow, upon request, the incidental, but not intentional taking of small numbers of marine mammals by U.S. citizens who engage in a specified activity (other than commercial fishing) within a specified geographical region if certain findings are made and regulations are issued.

Permission may be granted for periods of 5 years or less if NMFS finds that the taking will have no more than a negligible impact on the species or stock(s), will not have an unmitigable adverse impact on the availability of the species or stock(s) for subsistence uses. In addition, NMFS must prescribe regulations that include permissible methods of taking and other means effecting the least practicable adverse impact on the species and its habitat, and on the availability of the species for subsistence uses, paying particular attention to rookeries, mating grounds, and areas of similar significance. The regulations must include requirements pertaining to the monitoring and reporting of such taking.

Regulations governing the taking of several species of seals incidental to intake cooling water operations at Seabrook Station nuclear power plant were published on May 25, 1999 (64 FR 28114), and remain in effect until June 30, 2004. These regulations include mitigation, monitoring, and reporting requirements for the incidental taking of harbor seals (Phoca vitulina), gray seals (Halichoerus grypus), harp seals (Phoca groenlandica), and hooded seals (Cystophora cristata) at Seabrook Station.

Summary of Request

NMFS received a request from North Atlantic on June 4, 2002, for renewal of their LOA, which expires on June 26, 2002, to lethally take 20 harbor seals and 4 of any combination of gray, harp, and hooded seals at Seabrook Station. However, North Atlantic noted in their annual report that no seals have been entrapped in Seabrook's offshore intake structures since the installation of the Seal Deterrent Barriers in August 1999.

Authorization

Based on the determinations made in 1999 (64 FR 28114, May 25, 1999) and that annual reports submitted by North Atlantic indicate that no seals have been killed incidental to operations at Seabrook Station, NMFS has issued an LOA to North Atlantic for the taking of harbor seals, gray seals, harp seals, and hooded seals incidental to operations of the Seabrook Station with the understanding that the mitigation, monitoring, and reporting requirements described in 50 CFR 216.134-135 and in the LOA are undertaken.

Dated: July 24, 2002.
Wanda Cain,
Acting Director, Office of Protected Resources, National Marine Fisheries Service.

[FR Doc. 02-19231 Filed 7-29-02; 8:45 am]

BILLING CODE 3510-22-S